DEPARTMENT OF ENERGY

Federal Energy Regulatory Commission

Combined Notice of Filings #1

Take notice that the Commission received the following electric corporate filings:

Docket Numbers: EC20-99-000.

Applicants: Dempsey Ridge Wind Farm, LLC, EcoGrove Wind LLC, Red Hills Wind Project, L.L.C., Acciona Wind Energy USA LLC, Tatanka Wind Power, LLC, Nevada Solar One, LLC

Description: Joint Application for Authorization Under Section 203 of the Federal Power Act, et al. of Dempsey Ridge Wind Farm, LLC, et al.

Filed Date: 9/3/20.

Accession Number: 20200903-5201.

Comments Due: 5 p.m. ET 9/24/20.

Take notice that the Commission received the following electric rate filings:

Docket Numbers: ER10-2756-009.

Applicants: Griffith Energy LLC.

Description: Supplement to May 29, 2020 Notice of Non-Material Change in Status of Griffith Energy LLC.

Filed Date: 9/4/20.

Accession Number: 20200904-5090.

Comments Due: 5 p.m. ET 9/25/20.

Docket Numbers: ER20-1907-001.

Applicants: Minco Wind I, LLC.

Description: Tariff Amendment: Minco Wind I, LLC Amendment to Application for MBR Authority to be effective 7/27/2020.

Filed Date: 9/4/20.

Accession Number: 20200904-5056.

Comments Due: 5 p.m. ET 9/25/20.

Docket Numbers: ER20-2813-000.

Applicants: Nevada Power Company.

Description: § 205(d) Rate Filing: Service Agreement No. 20-00034 LMUD NITSA to be effective 11/2/2020.

Filed Date: 9/4/20.

Accession Number: 20200904-5000.

Comments Due: 5 p.m. ET 9/25/20.

Docket Numbers: ER20-2814-000.

Applicants: Sierra Pacific Power Company.

Description: § 205(d) Rate Filing: Service Agreement No. 20-00033 LMUD TIA to be effective 11/2/2020.

Filed Date: 9/4/20.

Accession Number: 20200904-5002.

Comments Due: 5 p.m. ET 9/25/20.

Docket Numbers: ER20-2815-000.

Applicants: New England Power Company.

Description: Notice of Cancellation of Large Generator Interconnection Agreement No. IA-NEP-4, et al. of New England Power Company.

Filed Date: 9/3/20.

Accession Number: 20200903-5200.

Comments Due: 5 p.m. ET 9/24/20.

Docket Numbers: ER20-2817-000.

Applicants: Ameren Illinois Company, Midcontinent Independent System Operator, Inc.

Description: § 205(d) Rate Filing: 2020-09-04_SA 3554 Ameren IL-Lincoln Land E&P to be effective 11/4/2020.

Filed Date: 9/4/20.

Accession Number: 20200904-5046.

Comments Due: 5 p.m. ET 9/25/20.

Docket Numbers: ER20-2818-000.

Applicants: PJM Interconnection, L.L.C.

Description: § 205(d) Rate Filing: First Revised ISA, Service Agreement No. 4534; Queue No. AF1-023 to be effective 8/6/2020.

Filed Date: 9/4/20.

Accession Number: 20200904-5049.

Comments Due: 5 p.m. ET 9/25/20.

Docket Numbers: ER20-2819-000.

Applicants: Pleinmont Solar 1, LLC.

Description: Baseline eTariff Filing: Reactive Power Compensation Filing to be effective 10/1/2020.

Filed Date: 9/4/20.

Accession Number: 20200904-5054.

Comments Due: 5 p.m. ET 9/25/20.

Docket Numbers: ER20-2820-000.

Applicants: American Transmission Systems, Incorporated, PJM Interconnection, L.L.C.

Description: § 205(d) Rate Filing: ATSI submits ECSAs, SA Nos. 5703 and 5704 to be effective 11/4/2020.

Filed Date: 9/4/20.

Accession Number: 20200904-5089.

Comments Due: 5 p.m. ET 9/25/20.

Docket Numbers: ER20-2821-000.

Applicants: Niagara Mohawk Power Corporation, New York Independent System Operator, Inc.

Description: § 205(d) Rate Filing: 205: EPC Agreement 2563 between NMPC and Atlantic Wind to be effective 8/10/2020.

Filed Date: 9/4/20.

Accession Number: 20200904-5109.

Comments Due: 5 p.m. ET 9/25/20.

Docket Numbers: ER20-2822-000.

Applicants: New York Independent System Operator, Inc., Niagara Mohawk Power Corporation.

Description: § 205(d) Rate Filing: Joint SGIA among NYISO and NMPC and ELP Stillwater SA no. 2550 to be effective 8/31/2020.

Filed Date: 9/4/20.

Accession Number: 20200904-5122.

Comments Due: 5 p.m. ET 9/25/20.

Docket Numbers: ER20-2823-000.

Applicants: Mid-Atlantic Interstate Transmission, LLC, PJM Interconnection, L.L.C.

Description: § 205(d) Rate Filing: MAIT submits three ECSAs, SA Nos. 5659, 5701, and 5702 to be effective 11/4/2020.

Filed Date: 9/4/20.

Accession Number: 20200904-5123.

Comments Due: 5 p.m. ET 9/25/20.

Docket Numbers: ER20-2824-000.

Applicants: Southwestern Public Service Company.

Description: § 205(d) Rate Filing: AGIS Production Template Update to be effective 1/1/2020.

Filed Date: 9/4/20.

Accession Number: 20200904-5124.

Comments Due: 5 p.m. ET 9/25/20.

Docket Numbers: ER20-2825-000.

Applicants: Alabama Power Company.

Description: Initial rate filing: DEF Twin Rivers Affected System Upgrade Agreement Filing to be effective 8/4/2020.

Filed Date: 9/4/20.

Accession Number: 20200904-5125.

Comments Due: 5 p.m. ET 9/25/20.

Docket Numbers: ER20-2826-000.

Applicants: Georgia Power Company.

Description: Initial rate filing: DEF Twin Rivers Affected System Upgrade Agreement Filing to be effective 8/4/2020.

Filed Date: 9/4/20.

Accession Number: 20200904-5126.

Comments Due: 5 p.m. ET 9/25/20.

Docket Numbers: ER20-2827-000.

Applicants: Mississippi Power Company.

Description: Initial rate filing: DEF Twin Rivers Affected System Upgrade Agreement Filing to be effective 8/4/2020.

Filed Date: 9/4/20.

Accession Number: 20200904-5127.

Comments Due: 5 p.m. ET 9/25/20.

Take notice that the Commission received the following electric securities filings:

Docket Numbers: ES20-51-000.

Applicants: GridLiance High Plains LLC.

Description: Supplement [Exhibits C, D & E] to July 31, 2020 Under Section 204 of the Federal Power Act for Authorization to Issue Securities of GridLiance High Plains LLC.

Filed Date: 9/3/20.

Accession Number: 20200903-5208.

Comments Due: 5 p.m. ET 9/8/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2020.
Nathaniel J. Davis, Sr.,
Deputy Secretary.

[FR Doc. 2020-20236 Filed 9-14-20; 8:45 am]

BILLING CODE 6717-01-P